DEPARTMENT OF EDUCATION

Privacy Act of 1974; Computer Matching Program

AGENCY: Department of Education.

ACTION: Notice of computer matching between the Department of Education and the Department of Veterans Affairs.

SUMMARY: Pursuant to the Computer Matching and Privacy Protection Act of 1988, Pub. L. 100-503, and the Office of Management and Budget (OMB) Final Guidelines on the Conduct of Matching Programs, notice is hereby given of the computer matching program between the Department of Education (ED) (the source agency) and the Department of Veterans Affairs (VA) (the recipient agency). The following notice represents the approval of a new computer matching agreement by the ED and VA Data Integrity Boards to implement the matching program on the effective date as indicated below.

In accordance with the Privacy Act of 1974 (5 U.S.C. 552a), as amended by the Computer Matching and Privacy Protection Act of 1988, OMB Final Guidelines on the Conduct of Matching Programs (see 54 FR 25818, June 19, 1989), OMB Memorandum M-01-05 (December 20, 2000),and OMB Circular A-130, the following information is provided:

1. Names of Participating Agencies

The U.S. Department of Education and the Department of Veterans Affairs.

2. Purpose of the Match

The purpose of this matching program between ED and VA is to verify the status of applicants for financial assistance under Title IV of the Higher Education Act of 1965, as amended (HEA) who claim to be veterans.

The Secretary of Education is authorized by the HEA to administer the Title IV programs and to enforce the terms and conditions of the HEA. The Secretary has the authority to treat applicants who are veterans as independent students. Independent students do not have to provide parental income and asset information to apply for Title IV, HEA program assistance.

Section 480(c) of the HEA defines the term “veteran” to mean any individual who (a) has engaged in the active duty in the United States Army, Navy, Air Force, Marines, or Coast Guard; and (b) was released under a condition other than dishonorable. Section 480(d)(3) of the HEA enables an applicant who is determined to be a veteran (as defined in subsection (c)(1)) to meet the definition of an independent student for purposes of Title IV, HEA program assistance eligibility.

3. Legal Authority for Conducting the Matching Program

Section 480(c) and (d)(3) of the HEA.

4. Categories of Records and Individuals Covered by the Match

ED will provide the Social Security Number and other identifying information of each applicant who indicates that he or she is a veteran. This information will be extracted from the Federal Student Aid Application File systems of records (18-11-01). The ED data will be matched against the Veterans and Beneficiaries Identification and Records Location Subsystem—VA (38VA23).

5. Effective Dates of the Matching Program

The matching program will become effective 40 days after a copy of the agreement, as approved by the Data Integrity Board of each agency, is sent to Congress and OMB, (or later if OMB objects to some or all of the agreement), or 30 days after publication of this notice in the Federal Register, whichever date is later. The matching program will continue for 18 months after the effective date and may be extended for an additional 12 months thereafter, if the conditions specified in 5 U.S.C. 552a(o)(2)(D) have been met.

6. Address for Receipt of Public Comments or Inquiries

Individuals wishing to comment on this matching program or obtain additional information about the program, including requesting a copy of the computer matching agreement between ED and VA, should contact Ms. Edith Bell, Management and Program Analyst, U.S. Department of Education, Room 4621, ROB-3, 400 Maryland Avenue, SW, Washington, DC 20202-5400. Telephone: (202) 708-5591. If you use a telecommunications device for the deaf (TDD), you may call the Federal Information Relay Service (FIRS) at 1-800-877-8339.

Individuals with disabilities may obtain this document in an alternative format (e.g., Braille, large print, audiotape or computer diskette) on request to the contact person listed in the preceding paragraph.

Electronic Access to This Document

You may view this document, as well as all other Department of Education documents published in the Federal Register, in text or Adobe Portable Document Format (PDF) on the Internet at the following site: www.ed.gov/legislation/FedRegister

To use PDF you must have the Adobe Acrobat Reader, which is available free at this site. If you have questions about using PDF, call the U.S. Government Printing Office (GPO), toll free at 1-888-293-6498, or in the Washington, DC area at (202) 512-1530.

Note: The official version of this document is the document published in the Federal Register. Free Internet access to the official edition of the Federal Register and Code of Federal Regulations is available on GPO access at: http://www.access.gpo.gov/nara/index.html

Dated: April 18, 2001.
Greg Woods,
Chief Operating Officer, Student Financial Assistance.

[FR Doc. 01-10111 Filed 4-23-01; 8:45 am]

BILLING CODE 4000-01-P